DEPARTMENT OF LABOR

Office of the Secretary

Bureau of International Labor Affairs Proposed Collection of Information; Comment Request

ACTION: Notice.

SUMMARY: The Department of Labor, as part of its continuing effort to reduce paperwork and respondent burden, is conducting a pre-clearance consultation to provide the general public and Federal agencies with an opportunity to comment on proposed and/or continuing collections of information in accordance with the Paperwork Reduction Act of 1995 (PRA) [44 U.S.C. 3505(c)(2)(A)]. The program helps to ensure that requested data can be provided in the desired format, reporting burden (time and financial resources) is minimized, collection instruments are clearly understood, and the impact of the collection requirements on respondents can be properly assessed.

The Department notes that a federal agency cannot conduct or sponsor a collection of information unless it is approved by Office of Management and Budget (OMB) under the PRA, and displays a currently valid OMB control number, and the public is not required to respond to a collection of information unless it displays a currently valid OMB control number. Also, notwithstanding any other provisions of law, no person shall be subject to penalty for failing to comply with a collection of information if the collection of information does not display a currently valid OMB control number. See 5 CFR 1320.5(a) and 1320.6. Currently, the International Labor Affairs Bureau is soliciting comments regarding the proposed collection of nominations for candidates eligible for an annual award to recognize extraordinary efforts to reduce the worst forms of child labor. A copy of the proposed information collection request can be obtained by contacting the office listed below in the address section of this notice.

DATES: Written comments must be submitted to the office listed in the address section below on or before August 1, 2009.

ADDRESSES: A copy of this proposed information collection request may be obtained by contacting Eileen Muirragui, telephone (202) 693-4842, fax (202) 693-4830, E-mail muirragui.eileen@dol.gov. Comments are to be submitted to Department of Labor/Bureau of International Labor Affairs, Attn: Eileen Muirragui, 200 Constitution Avenue, NW., (Room S-5317) Washington, DC 20210). Please use only one method of transmission for comments (mail, fax, or E-mail). The telephone and fax numbers listed here are not toll free.

SUPPLEMENTARY INFORMATION:

I. Background: The U.S. Department of Labor's (DOL) Iqbal Masih Award for the Elimination of Child Labor, presented by the Secretary of Labor, is intended to recognize exceptional efforts to reduce the worst forms of child labor and is in response to a Senate Committee mandate (Significant Report 110-107 DM/ILAB). The mandate directs the Secretary of Labor to establish an annual non-monetary award recognizing extraordinary efforts by an individual, company, organization or national government to reduce the worst forms of child labor. DOL is proposing a new data collection exercise to allow the public to nominate and provide critical information on proposed candidates for this award who have demonstrated extraordinary efforts to combat the worst forms of child labor.

II. Current Action: Pursuant to the PRA implementing regulations at 5 CFR 1320.8(d)(1), this notice requests comments on the proposed information collection request that will be part for the nomination process for the Iqbal Masih Award. The actual award process will be officially announced at a later date after the OMB has reviewed and approved the information collection requirements for the contents of nominations for the Award. Interested parties are encouraged to provide comments to the individual listed in the ADDRESSES section above.

III. Desired Focus of Comments: The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New Collection (Request for New OMB Control Number).

Agency: U.S. Department of Labor, Bureau of International Labor Affairs.

Title: Iqbal Masih Award Nominations.

OMB Number: Pending.

Affected Public: The general public, international organizations, for-profit and not-for-profit institutions, foreign entities.

Estimated Number of Respondents: 30.

Frequency: One time per application and once per year.

Total Estimated Annual Responses: 30.

Estimated Average Time per Response: 10 Hours.

Estimated Total Annual Burden Hours: 300.

Total Estimated Annual Cost Burden: $300.

Comments submitted in response to this notice will be summarized and may be included in the request for OMB approval of the final information collection request. The comments will become a matter of public record.

Signed at Washington, DC, this 22nd day of May, 2009.
Marcia Eugenio,
Acting Associate Deputy Under Secretary for International Affairs, Bureau of International Labor Affairs.

[FR Doc. E9-12542 Filed 5-28-09; 8:45 am]

BILLING CODE 4510-28-P